DEPARTMENT OF THE INTERIOR

Bureau of Land Management

[PO #4820000251; NVNV106696478]

Proposed Withdrawal and Opportunity for Public Meeting for the Sloan Utility and Transportation Corridor; Clark County, NV

AGENCY: Bureau of Land Management, Interior.

ACTION: Notice of proposed withdrawal.

SUMMARY: At the request of the Bureau of Land Management (BLM), the Secretary of the Interior proposes to withdraw approximately 1,043.57 acres of public lands located in Clark County, Nevada, from location and entry under the United States mining laws and from leasing under the mineral and geothermal leasing laws, but not from the disposal of mineral materials under the mineral materials disposal laws, for 20 years, subject to valid existing rights. The purpose of the proposed withdrawal is to establish protection for a utility and transportation corridor to facilitate the orderly development of future infrastructure and public services while preventing conflicting land uses. Publication of this notice segregates these lands for up to 2 years from location and entry under the United States mining laws and from leasing under the mineral and geothermal leasing laws, but not from the disposal of mineral materials under the mineral materials disposal laws, subject to valid existing rights. This notice initiates a 90-day public comment period and announces an opportunity to request a public meeting.

DATES: All comments and requests for a public meeting must be received by April 15, 2025.

ADDRESSES: All comments should be sent to the BLM, Las Vegas Field Office, Attn: Proposed Sloan Utility and Transportation Corridor Withdrawal, 4701 N Torrey Pines Dr., Las Vegas, NV 89130, or via email at blm_nv_lvfo_landtenureteam@blm.gov. The BLM will not consider comments submitted via telephone calls.

FOR FURTHER INFORMATION CONTACT: Eric Benavides, Realty Specialist, BLM Las Vegas Field Office, at (702) 515-5144, email: ebenavides@blm.gov. Individuals in the United States who are deaf, deafblind, hard of hearing, or have a speech disability may dial 711 (TTY, TDD, or Tele Braille) to access telecommunications relay services. Individuals outside the United States should use the relay services offered within their country to make international calls to the point-of-contact in the United States.

SUPPLEMENTARY INFORMATION: The purpose of the proposed withdrawal is to support the development of future infrastructure projects and public services by ensuring the land in the designated utility and transportation corridor remains available for these uses and by preventing activities or land uses that could interfere with or hinder such developments. The proposed withdrawal would allow for the disposal of mineral resources through lease, license, or permit if excess mineral materials are generated during development activities.

The BLM filed a petition/application requesting that the Secretary withdraw the following described public lands located in Clark County, Nevada, for a 20-year term:

Federal Lands

Mount Diablo Meridian, Nevada

T. 23 S., R. 60 E.,

Sec. 24, SW¼NE¼NE¼, S½NW¼NE¼, S½NE¼, S½NE¼NW¼, NW¼NW¼, S½NW¼, and S½;

Sec. 25, N½.

T. 23 S., R. 61 E.,

Sec. 19, lots 9 thru 13, and 15 thru 19;

Sec. 30, lots 6 thru 10, NE¼NW¼, N½SE¼NW¼NW¼, NE¼SW¼NW¼, and N½SE¼SW¼NW¼, those portions lying northwesterly of the westerly right-of-way of U.S. Highway 15.

The area described contains 1,015 acres, more or less, according to the BLM National PLSS CadNSDI, and the official plats of the surveys of the said land, on file with the BLM.

Non-Federal Surface Federal Mineral

Mount Diablo Meridian, Nevada

T. 23 S., R. 61 E.,

Sec. 19, lots 14 and 20;

Sec. 30, lot 5, NE¼NW¼NW¼, and S½SE¼NW¼NW¼.

The area described contains 28.57 acres, according to the official plats of the surveys of the said land, on file with the BLM.

The total areas described, including both Federal and non-Federal surface/Federal mineral lands, aggregate approximately 1,043.57 acres, more or less.

The Secretary of the Interior approved the BLM's petition. Therefore, the petition/application constitutes a withdrawal proposal by the Secretary of the Interior (43 CFR 2310.1-3(e)).

The use of a right-of-way, interagency, or cooperative agreement would not provide adequate protection for the area.

No additional water rights would be needed to fulfill the purpose of this proposed withdrawal.

Neither a right-of-way nor a cooperative agreement would adequately provide for the proposed uses because this area is a designated transportation corridor specifically established for compatible rights-of-way and the purpose of the withdrawal is to protect this corridor from conflicting uses. Relocating the proposed withdrawal outside this corridor would fail to realize its intended purpose of consolidating infrastructure to minimize environmental impacts and supporting the orderly development of future infrastructure projects and public services.

Before including your address, phone number, email address, or other personal identifying information in your comment, you should be aware that your entire comment, including your personal identifying information, may be made publicly available at any time. While you can ask us in your comment to withhold your personal identifying information from public review, we cannot guarantee that we will be able to do so.

Notice is hereby given that an opportunity for a public meeting is afforded in connection with the withdrawal proposal. All interested persons who desire a public meeting for the purpose of being heard on the proposed withdrawal must submit a written request to the BLM Nevada State Director at the BLM address listed above no later than April 15, 2025. If the authorized officer determines that a public meeting will be held, a notice of the time, date, and location will be published in the Federal Register and a local newspaper at least 30 days before the scheduled date of the meeting.

For a period until January 15, 2027, the public lands described earlier will be segregated from location and entry under the United States mining laws and from leasing under the mineral and geothermal leasing laws, but not from the disposal of mineral materials under the mineral materials disposal laws, subject to valid existing rights, unless the application is denied or canceled, or the withdrawal is approved prior to that date. Licenses, permits, cooperative agreements, or discretionary land use authorizations of a temporary nature may be allowed on a case-by-case basis during the temporary segregation period if they would comply with the applicable BLM land use plans for the described public lands located within the boundary of the proposed withdrawal.

This application will be processed in accordance with the regulations set forth in 43 CFR part 2300.

(Authority: 43 U.S.C. 1714)

Kimberly Prill,
Acting State Director.

[FR Doc. 2025-00814 Filed 1-14-25; 8:45 am]

BILLING CODE 4331-21-P